INTERNATIONAL TRADE COMMISSION

[Docket No 2971]

Certain Flash Memory Chips and Products Containing the Same Correction to Notice of Receipt of Complaint; Solicitation of Comments Relating to the Public Interest

AGENCY: U.S. International Trade Commission.

ACTION: Notice.

SUMMARY: Correction is made to named-respondent Macronix International Co., Ltd. of Taiwan.

SUPPLEMENTARY INFORMATION: The U.S. International Trade Commission published a notice (78 FR 48188, August 7, 2013) of receipt of complaint entitled, Certain Flash Memory Chips and Products Containing the Same, DN 2971; the Commission solicited comments on any public interest issues raised by the complaint or complainant's filing under section 210.8(b) of the Commission's Rules of Practice and Procedure (19 CFR 210.8(b)). The complaint named as respondents Macronix International Co., Ltd. of Taiwan; Macronix America, Inc. of CA; Macronix Asia Limited of Japan; Macronix (Hong Kong) Co., Ltd. of Hong Kong; Acer Inc. of Taiwan; Acer America Corporation of CA; ASUSTek Computer Inc. of Taiwan; Asus Computer International of CA; Belkin International, .Inc. of CA; D-Link Corporation of Taiwan; D-Link System, Inc. of CA; Netgear Inc. of CA; Nintendo Co., Ltd. of Japan; and Nintendo of America, Inc. of WA.

Issued: August 7, 2013.
Lisa R. Barton,
Acting Secretary to the Commission.

[FR Doc. 2013-19501 Filed 8-12-13; 8:45 am]

BILLING CODE 7020-02-P